DEPARTMENT OF TRANSPORTATION

Federal Aviation Administration

14 CFR Part 97

[Docket No. 30837; Amdt. No. 3474]

Standard Instrument Approach Procedures, and Takeoff Minimums and Obstacle Departure Procedures; Miscellaneous Amendments

AGENCY: Federal Aviation Administration (FAA), DOT.

ACTION: Final rule.

SUMMARY: This rule establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective April 24, 2012. The compliance date for each SIAP, associated Takeoff Minimums, and ODP is specified in the amendatory provisions.

The incorporation by reference of certain publications listed in the regulations is approved by the Director of the Federal Register as of April 24, 2012.

ADDRESSES: Availability of matters incorporated by reference in the amendment is as follows:

For Examination—

1. FAA Rules Docket, FAA Headquarters Building, 800 Independence Avenue SW., Washington, DC 20591;

2. The FAA Regional Office of the region in which the affected airport is located;

3. The National Flight Procedures Office, 6500 South MacArthur Blvd., Oklahoma City, OK 73169 or

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue SW., Washington, DC 20591; or

2. The FAA Regional Office of the region in which the affected airport is located.

FOR FURTHER INFORMATION CONTACT: Richard A. Dunham III, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125) Telephone: (405) 954-4164.

SUPPLEMENTARY INFORMATION: This rule amends Title 14 of the Code of Federal Regulations, Part 97 (14 CFR part 97), by establishing, amending, suspending, or revoking SIAPs, Takeoff Minimums and/or ODPs. The complete regulators description of each SIAP and its associated Takeoff Minimums or ODP for an identified airport is listed on FAA form documents which are incorporated by reference in this amendment under 5 U.S.C. 552(a), 1 CFR part 51, and 14 CFR part 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, and Navigation (air).

Issued in Washington, DC, on April 13, 2012.
Ray Towles,
Deputy Director, Flight Standards Service.

Adoption of the Amendment

Accordingly, pursuant to the authority delegated to me, Title 14, Code of Federal Regulations, Part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 31 MAY 2012

Marshall, AK, Marshall Don Hunter SR, BIBNE THREE Graphic DP

Napa, CA, Napa County, ILS OR LOC RWY 36L, Orig

Napa, CA, Napa County, LOC RWY 36L, Amdt 2D, CANCELLED

Oroville, CA, Oroville Muni, GPS RWY 1, Orig-A, CANCELLED

Oroville, CA, Oroville Muni, RNAV (GPS) RWY 1, Orig

Oroville, CA, Oroville Muni, VOR-A, Amdt 7

Washington, DC, Ronald Reagan Washington National, COPTER ILS OR LOC/DME RWY 1, Amdt 1

Washington, DC, Ronald Reagan Washington National, ILS OR LOC/DME RWY 1, ILS RWY 1 (SA CAT I), ILS RWY 1 (CAT II), Amdt 41

Washington, DC, Ronald Reagan Washington National, RNAV (RNP) RWY 1, Amdt 1

Washington, DC, Ronald Reagan Washington National, VOR/DME RWY 1, Amdt 14

Dunnellon, FL, Marion County, Takeoff Minimums and Obstacle DP, Amdt 1

Punta Gorda, FL, Punta Gorda, RNAV (GPS) RWY 4, Amdt 1

Punta Gorda, FL, Punta Gorda, RNAV (GPS) RWY 15, Orig-A

Punta Gorda, FL, Punta Gorda, RNAV (GPS) RWY 22, Orig-A

Punta Gorda, FL, Punta Gorda, RNAV (GPS) RWY 33, Orig-A

Punta Gorda, FL, Punta Gorda, Takeoff Minimums and Obstacle DP, Amdt 2

Punta Gorda, FL, Punta Gorda, VOR RWY 4, Amdt 1B

Punta Gorda, FL, Punta Gorda, VOR RWY 22, Amdt 4A

Madison, GA, Madison Muni, VOR/DME-A, Amdt 8

Forest City, IA, Forest City Muni, RNAV (GPS) RWY 15, Orig

Pocatello, ID, Pocatello Rgnl, VOR RWY 3, Amdt 17

Savanna, IL, Tri-Township, GPS RWY 13, Orig, CANCELLED

Savanna, IL, Tri-Township, RNAV (GPS) RWY 13, Orig

Savanna, IL, Tri-Township, Takeoff Minimums and Obstacle DP, Orig

Vandalia, IL, Vandalia Muni, Takeoff Minimums and Obstacle DP, Orig

Evansville, IN, Evansville Rgnl, RNAV (GPS) RWY 18, Amdt 1

Evansville, IN, Evansville Rgnl, RNAV (GPS) RWY 36, Amdt 1

Jeffersonville, IN, Clark Rgnl, RNAV (GPS) RWY 18, Orig

Jeffersonville, IN, Clark Rgnl, VOR RWY 18, Amdt 4

Monticello, IN, White County, GPS RWY 18, Orig, CANCELLED

Monticello, IN, White County, GPS RWY 36, Orig, CANCELLED

Monticello, IN, White County, RNAV (GPS) RWY 18, Orig

Monticello, IN, White County, RNAV (GPS) RWY 36, Orig

Anthony, KS, Anthony Muni, RNAV (GPS) RWY 18, Orig

Anthony, KS, Anthony Muni, RNAV (GPS) RWY 36, Orig

Anthony, KS, Anthony Muni, Takeoff Minimums and Obstacle DP, Orig

Anthony, KS, Anthony Muni, VOR-A, Amdt 2

Atwood, KS, Atwood-Rawlins County City-County, NDB RWY 16, Amdt 2, CANCELLED

Hartford, KY, Ohio County, GPS RWY 3, Orig, CANCELLED

Hartford, KY, Ohio County, GPS RWY 21, Orig, CANCELLED

Hartford, KY, Ohio County, RNAV (GPS) RWY 3, Orig

Hartford, KY, Ohio County, RNAV (GPS) RWY 21, Orig

Hartford, KY, Ohio County, Takeoff Minimums and Obstacle DP, Amdt 1

Louisville, KY, Louisville Intl-Standiford Field, ILS OR LOC RWY 17L, Amdt 4

Louisville, KY, Louisville Intl-Standiford Field, ILS OR LOC RWY 17R, Amdt 2

Louisville, KY, Louisville Intl-Standiford Field, ILS OR LOC RWY 35L, ILS RWY 35L (SA CAT I), ILS RWY 35L (CAT II), ILS RWY 35L (CAT III), Amdt 3

Louisville, KY, Louisville Intl-Standiford Field, ILS OR LOC RWY 35R, ILS RWY 35R (SA CAT I), ILS RWY 35R (CAT II), ILS RWY 35R (CAT III), Amdt 4

Louisville, KY, Louisville Intl-Standiford Field, RNAV (GPS) Y RWY 17L, Amdt 1

Louisville, KY, Louisville Intl-Standiford Field, RNAV (GPS) Y RWY 17R, Amdt 1

Louisville, KY, Louisville Intl-Standiford Field, RNAV (GPS) Y RWY 35L, Amdt 1

Louisville, KY, Louisville Intl-Standiford Field, RNAV (GPS) Y RWY 35R, Amdt 1

Jonesboro, LA, Jonesboro, NDB OR GPS RWY 35, Amdt 1, CANCELLED

Jonesboro, LA, Jonesboro, RNAV (GPS) RWY 18, Orig

Jonesboro, LA, Jonesboro, RNAV (GPS) RWY 36, Orig

Jonesboro, LA, Jonesboro, Takeoff Minimums and Obstacle DP, Orig

Lake Charles, LA, Chennault Intl, RADAR 1, Amdt 1B

Lake Charles, LA, Chennault Intl, VOR RWY 33, Amdt 4, CANCELLED

Monroe, LA, Monroe Rgnl, RNAV (GPS) RWY 32, Orig

New Orleans, LA, Louis Armstrong New Orleans Intl, ILS OR LOC RWY 1, Amdt 17

New Orleans, LA, Louis Armstrong New Orleans Intl, ILS OR LOC RWY 28, Amdt 9

New Orleans, LA, Louis Armstrong New Orleans Intl, RNAV (GPS) RWY 1, Amdt 1

New Orleans, LA, Louis Armstrong New Orleans Intl, RNAV (GPS) Y RWY 28, Amdt 3

New Orleans, LA, Louis Armstrong New Orleans Intl, RNAV (RNP) Z RWY 28, Amdt 1

New Bedford, MA, New Bedford Rgnl, RNAV (GPS) RWY 14, Orig

New Bedford, MA, New Bedford Rgnl, RNAV (GPS) RWY 32, Orig

Southbridge, MA, Southbridge Muni, VOR/DME-B, Amdt 9

Millinocket, ME, Millinocket Muni, RNAV (GPS) RWY 11, Orig

Millinocket, ME, Millinocket Muni, RNAV (GPS) RWY 29, Amdt 1

Alma, MI, Gratiot Community, RNAV (GPS) RWY 9, Amdt 1

Alma, MI, Gratiot Community, RNAV (GPS) RWY 27, Amdt 1

Escanaba, MI, Delta County, RNAV (GPS) RWY 27, Amdt 1

Rochester, MN, Rochester Intl, RNAV (GPS) RWY 2, Amdt 3

Rochester, MN, Rochester Intl, RNAV (GPS) RWY 20, Amdt 2

Rochester, MN, Rochester Intl, RNAV (GPS) RWY 31, Amdt 1

Staples, MN, Staples Muni, NDB RWY 14, Amdt 3

Staples, MN, Staples Muni, RNAV (GPS) RWY 14, Orig

Staples, MN, Staples Muni, RNAV (GPS) RWY 32, Orig

Staples, MN, Staples Muni, Takeoff Minimums and Obstacle DP, Amdt 3

Bozeman, MT, Bozeman Yellowstone Intl, ILS OR LOC RWY 12, Amdt 9

Beaufort, NC, Michael J. Smith Field, Takeoff Minimums and Obstacle DP, Amdt 3

Mount Airy, NC, Mount Airy/Surry County, Takeoff Minimums and Obstacle DP, Amdt 2

Raleigh/Durham, NC, Raleigh-Durham Intl, ILS OR LOC RWY 5R, ILS RWY 5R (SA CAT I), ILS RWY 5R (SA CAT II), Amdt 28

Raleigh/Durham, NC, Raleigh-Durham Intl, RNAV (GPS) Y RWY 5R, Amdt 2

Blair, NE, Blair Muni, RNAV (GPS) RWY 13, Orig-A

Blair, NE, Blair Muni, RNAV (GPS) RWY 31, Orig-A

Manchester, NH, Manchester, Takeoff Minimums and Obstacle DP, Amdt 10

Belmar/Farmingdale, NJ, Monmouth Executive, GPS RWY 14, Orig, CANCELLED

Belmar/Farmingdale, NJ, Monmouth Executive, RNAV (GPS) RWY 14, Orig

Belmar/Farmingdale, NJ, Monmouth Executive, RNAV (GPS) RWY 32, Orig

Belmar/Farmingdale, NJ, Monmouth Executive, Takeoff Minimums and Obstacle DP, Amdt 2

Belmar/Farmingdale, NJ, Monmouth Executive, VOR-A, Amdt 3

Caldwell, NJ, Essex County, LOC RWY 22, Amdt 3

Endicott, NY, Tri-Cities, RNAV (GPS) RWY 3, Orig-A

Endicott, NY, Tri-Cities, RNAV (GPS) RWY 21, Orig-A

Endicott, NY, Tri-Cities, VOR-A, Amdt 5A

Montgomery, NY, Orange County, NDB RWY 3, Amdt 4A, CANCELLED

Rochester, NY, Greater Rochester Intl, RNAV (GPS) RWY 10, Orig-A

Rome, NY, Griffiss Intl, RNAV (GPS) RWY 15, Amdt 1A

Barnesville, OH, Barnesville-Bradfield, GPS RWY 27, Orig, CANCELLED

Barnesville, OH, Barnesville-Bradfield, RNAV (GPS) RWY 27, Orig

Bryan, OH, Williams County, NDB-A, Amdt 7, CANCELLED

Bryan, OH, Williams County, RNAV (GPS) RWY 7, Amdt 1

Bryan, OH, Williams County, RNAV (GPS) RWY 25, Amdt 1

Chillicothe, OH, Ross County, RNAV (GPS) RWY 23, Amdt 1

Kent, OH, Kent State Univ, Takeoff Minimums and Obstacle DP, Orig

Mansfield, OH, Mansfield Lahm Rgnl, RNAV (GPS) RWY 14, Amdt 1

Mansfield, OH, Mansfield Lahm Rgnl, RNAV (GPS) RWY 32, Orig-B

Mansfield, OH, Mansfield Lahm Rgnl, VOR RWY 14, Amdt 15

Oxford, OH, Miami University, NDB RWY 5, Amdt 11

Oxford, OH, Miami University, RNAV (GPS) RWY 5, Orig

Oxford, OH, Miami University, RNAV (GPS) RWY 23, Orig

Oxford, OH, Miami University, Takeoff Minimums and Obstacle DP, Amdt 2

State College, PA, University Park, ILS OR LOC RWY 24, Amdt 9A

State College, PA, University Park, RNAV (GPS) RWY 6, Amdt 1A

State College, PA, University Park, RNAV (GPS) RWY 24, Orig-A

Aiken, SC, Aiken Muni, RNAV (GPS) RWY 25, Amdt 1A

Jackson, TN, Mc Kellar-Sipes Rgnl, ILS OR LOC RWY 2, Amdt 8A

Nashville, TN, John C Tune, ILS OR LOC/DME RWY 20, Amdt 1

Nashville, TN, John C Tune, RNAV (GPS) RWY 2, Amdt 1

Nashville, TN, John C Tune, RNAV (GPS) RWY 20, Amdt 1

Tullahoma, TN, Tullahoma Rgnl Arpt/WM Northern Field, NDB RWY 18, Amdt 3

Tullahoma, TN, Tullahoma Rgnl Arpt/WM Northern Field, VOR RWY 6, Amdt 1

Union City, TN, Everett-Stewart Rgnl, ILS OR LOC RWY 1, Amdt 1

Union City, TN, Everett-Stewart Rgnl, RNAV (GPS) RWY 1, Amdt 2

Union City, TN, Everett-Stewart Rgnl, RNAV (GPS) RWY 19, Amdt 1

Union City, TN, Everett-Stewart Rgnl, VOR/DME-A, Amdt 9

San Antonio, TX, Boerne Stage Field, RNAV (GPS) RWY 17, Amdt 1

San Antonio, TX, Boerne Stage Field, RNAV (GPS) RWY 35, Amdt 1

Sherman/Dension, TX, North Texas Rgnl/Perrin Field, ILS OR LOC RWY 17L, Amdt 1

Sherman/Dension, TX, North Texas Rgnl/Perrin Field, NDB RWY 17L, Amdt 10

Sherman/Dension, TX, North Texas Rgnl/Perrin Field, RNAV (GPS) RWY 17L, Orig

Sherman/Dension, TX, North Texas Rgnl/Perrin Field, RNAV (GPS) RWY 35R, Orig

Sherman/Dension, TX, North Texas Rgnl/Perrin Field, VOR/DME-A, Amdt 1

Sherman/Dension, TX, North Texas Rgnl/Perrin Field, VOR/DME RNAV RWY 35R, Orig-D, CANCELLED

St George, UT, St George Muni, RNAV (GPS) RWY 1, Orig-A

Bennington, VT, William H. Morse State, Takeoff Minimums and Obstacle DP, Amdt 3

Wenatchee, WA, Pangborn Memorial, Takeoff Minimums and Obstacle DP, Amdt 4

Madison, WI, Blackhawk Airfield, Takeoff Minimums and Obstacle DP, Amdt 1

Parkersburg, WV, Mid-Ohio Valley Rgnl, ILS OR LOC RWY 3, Amdt 14

Parkersburg, WV, Mid-Ohio Valley Rgnl, RNAV (GPS) RWY 3, Amdt 2

Parkersburg, WV, Mid-Ohio Valley Rgnl, RNAV (GPS) RWY 10, Orig

Parkersburg, WV, Mid-Ohio Valley Rgnl, RNAV (GPS) RWY 21, Amdt 2

Parkersburg, WV, Mid-Ohio Valley Rgnl, RNAV (GPS) RWY 28, Orig

[FR Doc. 2012-9736 Filed 4-23-12; 8:45 am]

BILLING CODE 4910-13-P